DEPARTMENT OF THE INTERIOR

Fish and Wildlife Service

Trinity Adaptive Management Working Group

AGENCY: Fish and Wildlife Service, Interior.

ACTION: Notice of meeting.

SUMMARY: The Trinity Adaptive Management Working Group (TAMWG) affords stakeholders the opportunity to give policy, management, and technical input concerning Trinity River (California) restoration efforts to the Trinity Management Council. Primary objectives of the meeting will include: Integrated Assessment Plan, Trinity River Restoration Program (TRRP) budget process, flow scheduling for 2007, riparian land ownership, non-TRRP restoration activity in the Trinity basin, Klamath Basin (Oregon and California) initiatives, juvenile fish health, 2006 fish return information, and updates and reports on ongoing activities. Completion of the agenda is dependent on the amount of time each item takes. The meeting could end early if the agenda has been completed. The meeting is open to the public.

DATES: The Trinity Adaptive Management Working Group will meet from 8:30 a.m. to 5 p.m. on Tuesday, December 12, 2006.

ADDRESSES: The meeting will be held at the Weaverville Victorian Inn, 1709 Main St., 299 West, Weaverville, California 96093. For more information, please contact the U.S. Fish and Wildlife Service, 1655 Heindon Road, Arcata, California 95521. For background information and questions regarding the Trinity River Restoration Program, please contact Douglas Schleusner, Executive Director, Trinity River Restoration Program, P.O. Box 1300, 1313 South Main Street, Weaverville, California 96093.

FOR FURTHER INFORMATION CONTACT: Randy A. Brown of the U.S. Fish and Wildlife Service, Arcata Fish and Wildlife Office, telephone: (707) 822-7201. Randy A. Brown is the working group's Designated Federal Officer. For questions regarding the Trinity River Restoration Program, please contact Douglas Schleusner, Executive Director, telephone: (530) 623-1800.

SUPPLEMENTARY INFORMATION: Under section 10(a)(2) of the Federal Advisory Committee Act (5 U.S.C. App.), this notice announces a meeting of the Trinity Adaptive Management Working Group (TAMWG).

Dated: October 30, 2006.
Randy A. Brown,
Designated Federal Officer, Arcata Fish and Wildlife Office, Arcata, CA.

[FR Doc. E6-18736 Filed 11-6-06; 8:45 am]

BILLING CODE 4310-55-P